DEPARTMENT OF ENERGY

Federal Energy Regulatory Commission

[Project No. 2145-041 Washington]

Public Utility District No. 1 of Chelan County; Notice of Availability of Environmental Assessment

September 18, 2001.

In accordance with the National Environmental Policy Act of 1969 and the Federal Energy Regulatory Commission's (Commission) Regulations, 18 CFR part 380 (Order No. 486, 52 FR 47910), the Office of Energy Projects has reviewed Public Utility District No.1 of Chelan County's application for license amendment to temporarily increase, by one foot, the normal operating level of the reservoir at the Rocky Reach Hydroelectric Project, located on the Columbia River in Chelan and Douglas Counties, Washington, and has prepared an Environmental Assessment (EA). The project occupies lands managed by the Bureau of Land Management and the U.S. Forest Service.

The EA contains the staff's analysis of the potential environmental impacts of the proposed amendment and concludes that approval of the proposed amendment with staff's modifications would not constitute a major federal action that would significantly affect the quality of the human environment.

The EA is attached to a Commission order issued on September 13, 2001 for the above application. Copies of the EA are available for review at the Commission's Public Reference Room, located at 888 First Street, NE., Washington, DC 20426, or by calling (202) 208-1371. Copies of this filing are on file with the Commission and are available for public inspection. The EA may also be viewed on the Web at http://www.ferc.gov using the “RIMS” link, select “Docket#” and follow the instructions (call 202-208-2222 for assistance).

For further information, contact Vince Yearick at (202) 219-3073.

David P. Boergers,
Secretary.

[FR Doc. 01-23813 Filed 9-21-01; 8:45 am]

BILLING CODE 6717-01-P